DEPARTMENT OF THE INTERIOR

Fish and Wildlife Service

Notice of Intent To Prepare Comprehensive Conservation Plans and Environmental Impact Assessments for Arrowwood National Wildlife Refuge, Pingree, ND and Sand Lake National Wildlife Refuge, Columbia, SD

AGENCY: Fish and Wildlife Service, Interior.

ACTION: Notice of intent.

SUMMARY: The U.S. Fish and Wildlife Service intends to gather information necessary to prepare Comprehensive Conservation Plans and associated environmental documents for the Arrowwood and Sand Lake National Wildlife Refuges located on the James River in North and South Dakota, respectively. The Service is issuing this Notice in compliance with its policy to advise other organizations and the public of its intentions and to obtain suggestions and information on the scope of issues to be considered in the planning process.

DATES: Written comments should be received by October 1, 2001.

ADDRESSES: Comments and requests for more information should be sent to: Arrowwood NWR Planning Project, U.S. Fish and Wildlife Service, 7745 11th Street SE., Pingree, ND 58476-8308; or to: Sand Lake NWR Planning Project, 39650 Sand Lake Drive, Columbia SD 57433.

FOR FURTHER INFORMATION CONTACT: Adam Misztal, Refuge Planner, Division of Planning, PO Box 25486, DFC, Denver, CO 80225; (303) 236-8145, extension 607.

SUPPLEMENTARY INFORMATION: The Service has initiated comprehensive conservation planning for the Arrowwood and Sand Lake National Wildlife Refuges for the conservation and development of their natural resources. These refuges are located on the James River in North and South Dakota, respectively. These Refuges are open to public use.

Comprehensive planning will develop management goals, objectives, and strategies to carry out the purposes of the Refuge and comply with laws and policies governing refuge management and public use of refuges.

The Service requests input as to what issues, affecting management or public use, should be addressed during the planning process. The Service is especially interested in receiving public input in the following areas:

—What makes these Refuges special for you?

—What problems or issues do you see affecting management or public use of these Refuges?

—What improvements do you recommend for these Refuges?

—What changes, if any, would you like to see in the management of these Refuges?

The Service has provided the above questions for your optional use. The Service has no requirement that you must provide information. The Planning Team developed these questions to facilitate finding out more information about individual issues and ideas. Comments received by the Planning Team will be used as part of the planning process; individual comments will not be referenced in our reports or directly responded to.

Opportunities will be provided for public input at open houses to be held near Arrowwood Refuge. Four open houses will be held to scope issues and concerns:

Tuesday, August 14, 2001; Jamestown Law Enforcement Center 205 6th Street SE., Jamestown ND, 4 p.m. to 7 p.m.; Edmunds/Pingree Community Center, Highway 281 South, Pingree, ND, 8 p.m. to 11 p.m.

Wednesday, August 15, 2001; Dakota Central Telecommunications Cooperative, 630 5th St. N, Carrington, ND, 4 p.m. to 7 p.m.; Kensal Community Café, 424 Main Street, 8 p.m. to 11 p.m.

Opportunities will be also provided for public input at open houses to be held near Sand Lake Refuge. Three open houses will be held to scope issues and concerns:

Tuesday, September 11, 2001; Hecla Community Center, Hecla, SD, 7 p.m. to 9 p.m.

Wednesday, September 12, 2001; Columbia Legion Building, Columbia, SD, 7 p.m. to 9 p.m.

Thursday, September 12, 2001; Brown County annex basement (community room), Aberdeen, SD, 7 p.m. to 9 p.m.

All information provided voluntarily by mail, phone, or at public meetings becomes part of the official public record (i.e., names, addresses, letters of comment, input recorded during meetings). If requested under the Freedom of Information Act by a private citizen or organization, the Service may provide copies of such information.

The environmental impact assessment of this project will be conducted in accordance with the requirements of the National Environmental Policy Act of 1969, as amended (42 U.S.C. 4321 et seq.). NEPA Regulations (40 CFR 1500-1508), other appropriate Federal laws and regulations, Executive Order 12996, the National Wildlife Refuge System Improvement Act of 1997, and Service policies and procedures for compliance with those regulations.

Dated: July 20, 2001.
John A. Blankenship,
Deputy Regional Director, Denver, Colorado.

[FR Doc. 01-19122 Filed 7-31-01; 8:45 am]

BILLING CODE 4310-55-M